DEPARTMENT OF COMMERCE

International Trade Administration

[A-489-842]

Prestressed Concrete Steel Wire Strand From the Republic of Turkey: Final Results of Antidumping Duty Administrative Review; 2020-2022

AGENCY: Enforcement and Compliance, International Trade Administration, Department of Commerce.

SUMMARY: The U.S. Department of Commerce (Commerce) determines that the sole producer/exporter subject to this administrative review, Celik Halat ve Tel Sanayi A.S. (Celik Halat), made sales of the subject merchandise at less than normal value during the period of review September 30, 2020, through January 31, 2022.

DATES: Applicable November 16, 2022.

FOR FURTHER INFORMATION CONTACT: Ajay Menon or Macey Mayes, AD/CVD Operations, Office II, Enforcement and Compliance, International Trade Administration, U.S. Department of Commerce, 1401 Constitution Avenue NW, Washington, DC 20230; telephone: (202) 482-0208 or (202) 482-4473, respectively.

SUPPLEMENTARY INFORMATION:

Background

On September 1, 2022, Commerce published the Preliminary Results and invited comments from interested parties.¹ No interested party submitted comments. Commerce conducted this administrative review in accordance with section 751 of the Tariff Act of 1930, as amended (the Act).

¹ See Prestressed Concrete Steel Wire Strand from the Republic of Turkey: Preliminary Results of Antidumping Duty Administrative Review; 2020-2022, 87 FR 53723 (September 1, 2022) (Preliminary Results), and accompanying Preliminary Decision Memorandum (PDM).

Scope of the Order ²

² See Prestressed Concrete Steel Wire Strand from Argentina, Colombia, Egypt, the Netherlands, Saudi Arabia, Taiwan, the Republic of Turkey, and the United Arab Emirates: Antidumping Duty Orders, 86 FR 7703 (February 1, 2021 (Order).

The merchandise covered by this Order is prestressed concrete steel wire strand (PC strand) from Turkey. The PC strand subject to this Order is currently classifiable under subheadings 7312.10.3010 and 7312.10.3012 of the Harmonized Tariff Schedule of the United States (HTSUS). Although the HTSUS subheadings are provided for convenience and customs purposes, the written description of the scope of the Order is dispositive.³

³ For a full description of the scope of the order, see the Preliminary Results PDM at 2-3.

Final Results of Review

We received no comments from interested parties on the Preliminary Results and, therefore, are making no changes to our calculations in the final results of this review. Accordingly, as a result of this review, we determine that the following weighted-average dumping margin exists for Celik Halat for the period September 30, 2020, through January 31, 2022:

Producer/exporter | Weighted- average dumping margin (percent) | Cash deposit rate adjusted for subsidy offset (percent) ¹
Celik Halat ve Tel Sanayi A.S | 53.65 | 53.16
¹ We subtracted 0.49 percent, the amount of export subsidies Commerce calculated in the most recently completed segment of the companion countervailing duty proceeding, from the dumping margin of 53.65 percent. See Prestressed Concrete Steel Wire Strand from the Republic of Turkey: Notice of Court Decision Not in Harmony With the Final Determination of Countervailing Duty Investigation; Notice of Amended Final Determination, 87 FR 34653 (June 7, 2022); see also Prestressed Concrete Steel Wire Strand from the Republic of Turkey: Notice of Court Decision Not in Harmony With the Final Determination of Antidumping Investigation; Notice of Amended Final Determination, 87 FR 34241 (June 6, 2022) (Amended Final Determination).

Disclosure

Normally, Commerce will disclose to the parties in a proceeding the calculations performed in connection with a final results of review within five days of any public announcement or, if there is no public announcement, within five days of the date of publication of the notice of final results in the Federal Register, in accordance with 19 CFR 351.224(b). However, because we have made no changes from the Preliminary Results, there are no calculations to disclose.

Assessment Rates

Pursuant to section 751(a)(2)(C) of the Act, and 19 CFR 351.212(b)(1), Commerce has determined, and U.S. Customs and Border Protection (CBP) shall assess, antidumping duties on all appropriate entries of subject merchandise in accordance with the final results of this review. We also intend to instruct CBP to take into account the “provisional measures deposit cap,” in accordance with 19 CFR 351.212(d).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the company listed above will be that established in the final results of this review; (2) for previously reviewed or investigated companies not listed above, the cash deposit will continue to be the company-specific rate published for the most recently completed segment; (3) if the exporter is not a firm covered in this review or the less-than-fair-value investigation, but the producer is, then the cash deposit rate will be the rate established for the most recent segment for the producer of the merchandise; and (4) the cash deposit rate for all other producers or exporters will continue to be 17.39 percent, the all-others rate established in the Amended Final Determination, adjusted for export subsidies.⁴ These deposit requirements, when imposed, shall remain in effect until further notice.

⁴ See Amended Final Determination, 87 FR at 34241.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice serves as the only reminder to parties subject to an administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and terms of an APO is a sanctionable violation.

Notification to Interested Parties

This notice is issued and published in accordance with sections 751(a)(1) and 777(i) of the Act.

Dated: November 8, 2022.
Lisa W. Wang,
Assistant Secretary for Enforcement and Compliance.

[FR Doc. 2022-24913 Filed 11-15-22; 8:45 am]

BILLING CODE 3510-DS-P